COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products to the Procurement List that will be furnished by nonprofit agencies employing persons who are blind or have other severe disabilities.

DATES: Comments must be received on or before: December 16, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Product Name(s)—NSN(s): Coat, Army Combat Uniform, Permethrin, Unisex, OCP 2015

8415-01-623-5052—XS-XXS

8415-01-623-5162—XS-XS

8415-01-623-5165—XS-S

8415-01-623-5166—XS-R

8415-01-623-5169—XS-L

8415-01-623-5170—XS-XL

8415-01-623-5172—S-XXS

8415-01-623-5174—S-XS

8415-01-623-5178—S-S

8415-01-623-5180—S-R

8415-01-623-5182—S-L

8415-01-623-5236—S-XL

8415-01-623-5237—M-XXS

8415-01-623-5525—M-XS

8415-01-623-5526—M-S

8415-01-623-5528—M-R

8415-01-623-5529—M-L

8415-01-623-5534—M-XL

8415-01-623-5537—M-XXL

8415-01-623-5541—L-XXS

8415-01-623-5542—L-XS

8415-01-623-5543—L-S

8415-01-623-5552—L-R

8415-01-623-5553—L-L

8415-01-623-5554—L-XL

8415-01-623-5557—L-XXL

8415-01-623-5740—XL-XXS

8415-01-623-5742—XL-XS

8415-01-623-5789—XL-S

8415-01-623-5790—XL-R

8415-01-623-5793—XL-L

8415-01-623-5795—XL-XL.

8415-01-623-5796—XL-XXL

8415-01-623-5797—XXL-R

8415-01-623-5801—XXL-L

8415-01-623-5803—XXL-XL

8415-01-623-5805—XXL-XXL

Mandatory Source(s) of Supply: Industries of the Blind, Inc., Greensboro, NC

Mississippi Industries for the Blind, Jackson, MS

San Antonio Lighthouse for the Blind, San Antonio, TX

Mandatory Purchase for: U.S. Army for up to 200,000 ACU Coats for a period of one year

Contracting Activity: Defense Logistics Agency Troop Support, Philadelphia, PA

Distribution: C-List

Barry S. Lineback,
Director, Business Operations.

[FR Doc. 2015-28922 Filed 11-13-15; 8:45 am]

BILLING CODE 6353-01-P